Title 3—

The President

Executive Order 14373 of January 9, 2026

Safeguarding Venezuelan Oil Revenue for the Good of the American and Venezuelan People

By the authority vested in me as President by the Constitution and the laws of the United States of America, including the International Emergency Economic Powers Act (50 U.S.C. 1701 et seq.) (IEEPA), the National Emergencies Act (50 U.S.C. 1601 et seq.) (NEA), and section 301 of title 3, United States Code, it is hereby ordered:

Section 1. Findings. As Chief Executive and Commander in Chief, I find that the threat of attachment or the imposition of other judicial process against the Foreign Government Deposit Funds, as defined in section 2 of this order, will materially harm the national security and foreign policy of the United States.

Specifically, the attachment or the imposition of other judicial process against the Foreign Government Deposit Funds will substantially interfere with our critical efforts to ensure economic and political stability in Venezuela. The failure of these critical efforts would jeopardize major foreign policy objectives of the United States, including: ending the dangerous influx of illegal immigrants and the flood of illicit narcotics, which has resulted in the death of countless thousands of American citizens; protecting American interests against malign actors such as Iran and Hezbollah; and bringing peace, prosperity, and stability to the Venezuelan people and to the Western Hemisphere more generally.

Accordingly, the preservation of the Foreign Government Deposit Funds is of the utmost importance to the United States. I therefore find that the possibility of attachment or the imposition of judicial process against the Foreign Government Deposit Funds constitutes an unusual and extraordinary threat to the national security and foreign policy of the United States, which has its source in whole or substantial part outside the United States, and I hereby declare a national emergency to deal with that threat.

Sec. 2. Definition. For the purposes of this order, “Foreign Government Deposit Funds” means funds paid to or held by the United States Government in designated United States Department of the Treasury accounts or funds on behalf of the Government of Venezuela or its agencies or instrumentalities, including the Central Bank of Venezuela and Petroleos de Venezuela, S.A., that are derived from either the sale of natural resources from, or the sale of diluents to, the Government of Venezuela or its agencies or instrumentalities.

Sec. 3. Preservation of Foreign Government Deposit Funds. (a) Unless licensed or otherwise authorized pursuant to this order, any attachment, judgment, decree, lien, execution, garnishment, or other judicial process is prohibited, and shall be deemed null and void, with respect to the Foreign Government Deposit Funds.

(b) No Foreign Government Deposit Funds may be transferred, paid, exported, withdrawn, or otherwise dealt in, except to the extent provided by regulations, orders, directives, or licenses that may be issued pursuant to this order, and notwithstanding any contract entered into or any license or permit granted prior to the effective date of this order.

(c) This order and actions taken pursuant to this order shall apply notwithstanding any previously issued Executive Order, and any action taken pursuant to such an order, to the extent such order or action blocks, regulates, or otherwise affects the Foreign Government Deposit Funds. This order and actions taken pursuant to this order shall supersede any previously issued Executive Order, and any action taken pursuant to such an order, to the extent such order or action blocks, regulates, or otherwise affects the Foreign Government Deposit Funds.

Sec. 4. Additional Presidential Findings and Determinations. I hereby determine and find that:

(a) Ownership. The Foreign Government Deposit Funds constitute property of the Government of Venezuela and do not constitute the property of any private party, including judgment creditors of Venezuela or its agencies or instrumentalities, or commercial actors that transacted or are transacting business with Venezuela or its agencies or instrumentalities.

(b) Custodial Nature of United States Possession. The United States Government will hold the Foreign Government Deposit Funds solely in a custodial and governmental capacity, and not as a market participant.

(c) Absence of Commercial Use in the United States. The Foreign Government Deposit Funds:

(i) have not been, and shall not be, used for any commercial activity in the United States; and

(ii) shall be held pending sovereign disposition for public, governmental, or diplomatic purposes determined by the Secretary of State, on behalf of the Government of Venezuela.

(d) Governmental Purpose. The retention and administration of the Foreign Government Deposit Funds serve public sovereign purposes, including compliance with international obligations, the performance of government functions, and the maintenance of diplomatic and foreign policy objectives.

(e) No Waiver of Immunity. Neither the placement of the Foreign Government Deposit Funds in a United States Department of the Treasury deposit account nor any related arrangement or activity constitutes an express or implied waiver of sovereign immunity from any attachment, judgment, decree, lien, execution, garnishment, or other judicial process, or consent to the jurisdiction of any court for purposes of enforcing private claims against such funds.

(f) International Comity and Foreign Relations. Any attachment, judgment, decree, lien, execution, garnishment, or other judicial process against the Foreign Government Deposit Funds would interfere with the conduct of the foreign relations of the United States and undermine principles of international comity.

Sec. 5. Treatment of Foreign Government Deposit Funds. (a) In holding the Foreign Government Deposit Funds, the Secretary of the Treasury shall:

(i) designate such funds in a manner that clearly reflects their status as sovereign property of the Government of Venezuela held in custody by the United States, and not as the property of the United States;

(ii) comply with instructions regarding disbursements or transfers of the Foreign Government Deposit Funds as may be determined by the Secretary of State, and not permit such funds to be used for any other purpose; and

(iii) consult, as appropriate, with the Secretary of State, the Attorney General, and the Secretary of Energy.

(b) The Secretary of the Treasury and the Attorney General are authorized and directed to assert, in any judicial or administrative proceeding, the sovereign immunity of the Foreign Government Deposit Funds consistent with this order and applicable law.

Sec. 6. Administration. (a) The Secretary of the Treasury, in consultation with the Secretary of State, the Attorney General, and the Secretary of Energy, is authorized to take such actions, including the promulgation of rules and regulations, and to employ all powers granted to the President by IEEPA as may be necessary to carry out the purposes of this order. The Secretary of the Treasury may, consistent with applicable law, redelegate any of these functions within the Department of the Treasury. The head of each executive department and agency (agency) of the United States Government shall take all appropriate measures within the agency's authority to implement this order.

(b) The Secretary of the Treasury, in consultation with the Secretary of State, is hereby authorized to submit recurring and final reports to the Congress on the national emergency declared in this order, consistent with section 401(c) of the NEA (50 U.S.C. 1641(c)) and section 204(c) of IEEPA (50 U.S.C. 1703(c)).

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of the Treasury.

THE WHITE HOUSE,

January 9, 2026.

[FR Doc. 2026-00831

Filed 1-14-26; 11:15 am]

Billing code 4810-25-P